DEPARTMENT OF HOMELAND SECURITY

U.S. Citizenship and Immigration Services

[CIS No. 2796-25; DHS Docket No. USCIS-2022-0011]

Termination of Trial Testing of Redesigned Naturalization Test for Naturalization Applications

AGENCY: U.S. Citizenship and Immigration Services (USCIS), Department of Homeland Security (DHS).

ACTION: Notice.

SUMMARY: On December 15, 2022, DHS published a Federal Register Notice entitled “Trial Testing of Redesigned Naturalization Test for Naturalization Applications,” which announced it intended to conduct a nationwide trial of planned changes to the naturalization test, including a standardized English-speaking test, as part of the requirement to demonstrate an understanding of the English language, and a civics test with updated content and format. Most comments received on the proposed trial test, including those from immigrant advocacy organizations and external stakeholders, expressed concerns about the trial test. Therefore, USCIS will no longer pursue the announced trial test.

DATES: As of December 30, 2024, USCIS will no longer pursue the trial test as described in 87 FR 76634 (Dec. 15, 2022).

FOR FURTHER INFORMATION CONTACT: Mary Flores, Office of Citizenship, U.S. Citizenship and Immigration Services (USCIS), Department of Homeland Security (DHS), 5900 Capital Gateway Drive, Camp Springs, MD 20746; telephone 240-721-3000 or email natzredesign22@uscis.dhs.gov.

SUPPLEMENTARY INFORMATION:

I. Background

On December 15, 2022, USCIS issued a notice indicating its plan to conduct a trial of both a standardized English-speaking test (use of photographs which the applicant would be asked to describe) as part of the requirement to demonstrate an understanding of the English language and a civics test with updated content and format (multiple choice test).¹ The Executive Order on Restoring Faith in Our Legal Immigration Systems and Strengthening Integration and Inclusion Efforts for New Americans,² directed DHS to eliminate barriers in and otherwise improve the existing naturalization process including the civics and English language tests. Along with the Executive Order and feedback from stakeholders about the standardization and structure of the naturalization test, USCIS developed the trial test for the naturalization test redesign. USCIS announced conducting the trial as part of its effort to redesign the naturalization test to better ensure that the English-speaking part of the English Language requirements is standardized and sufficiently tests the ability to understand words in ordinary usage in the English language.³ Furthermore, USCIS intended to update the civics test content to reflect current best practices in test design and to redesign the civics test.⁴

¹ See Trial Testing Redesigned Naturalization Test for Naturalization Applications, 87 FR 76634 (Dec. 15, 2022).

² See Executive Order 14012 (February 2, 2021), available at https://www.govinfo.gov/content/pkg/FR-2021-02-05/pdf/2021-02563.pdf.

³ See Trial Testing Redesigned Naturalization Test for Naturalization Applications, 87 FR 76634 (Dec. 15, 2022).

⁴ Id.

II. Rationale for Termination

USCIS hosted virtual public engagements on the naturalization test redesign trial tests on January 12, 2023, March 3, 2023, April 28, 2023, and May 31, 2023.⁵ Additionally, USCIS and the Department of Homeland Security (DHS)' Office of the CIS Ombudsman hosted a webinar on July 19, 2023.⁶ These engagements provided an overview of the proposed changes and next steps, including seeking volunteer community-based organizations (CBOs) that work with immigrant English language learners and lawful permanent residents preparing for naturalization to take the trial test, and utilizing the results of the trial to support changes to the naturalization test. During these engagements, USCIS invited all interested parties to submit written data, views, comments, and arguments on all aspects of the proposed trial testing. At these engagements, some comments USCIS received were in opposition to the trial test. USCIS also received comments through email or submitted letters that opposed the trial test or had positive comments. USCIS received more than 1300 comments from stakeholders from engagements, emails and submitted letters. The majority of comments opposed the trial testing.

⁵ See Naturalization Test Redesign Development 2022 available at https://www.uscis.gov/citizenship-resource-center/naturalization-test-and-study-resources/naturalization-test-redesign-development-2022 (last visited Nov. 20, 2024).

⁶ See The CIS Ombudsman's Webinar: Engagement with U.S. Citizenship and Immigration Services (USCIS) on the Naturalization Test Redesign Initiative, available at https://www.dhs.gov/publication/cis-ombudsmans-webinar-naturalization-test-redesign-initiative (last visited Nov. 20, 2024).

USCIS received some positive comments about the trial English Test which indicated an appreciation for a revised test, a focus of analysis-driven approach, and attempt to make the test fairer and more efficient, and that the trial test may be easier for lower-level students. Most of the public feedback, however, expressed concerns about the proposed changes to the English-speaking naturalization test. These commenters stated the change:

• Would create new barriers to naturalization rather than improve the naturalization process in keeping with Executive Order 14012 on Restoring Faith in Our Legal Immigration Systems and Strengthening Integration and Inclusion Efforts for New Americans.⁷

⁷ See, for example, Bill Bliss, Citizenship Test Revision Will Create New Barrier to Naturalization (Mar. 2, 2023), https://bill-bliss.medium.com/citizenship-test-revision-will-create-new-barriers-to-naturalization-aab015cbf277 (last visited Nov 20, 2024).

• Would be adding a testing requirement, creating an additional task for the naturalization interview and a new exam for the applicant to prepare for, and would not elicit an applicant's English proficiency in as relevant or accurate a manner as the current speaking evaluation.⁸

⁸ Id.

USCIS received some positive comments on the announcement of the multiple-choice format of the trial test, including that it would level the test better for English as a second language students at all levels. Most feedback, however, opposed changing the civics test to a multiple-choice format. These commenters stated the change:

• Would require reading comprehension skills at a significantly higher level of English proficiency and reading vocabulary knowledge than is currently required for naturalization.⁹

⁹ Id.

• Would require test-taking skills in multiple choice format that is not currently required of naturalization applicants.¹⁰

¹⁰ See, for example, Immigration Legal Resource Center (IRLC), Naturalization Test Redesign (Sept. 8, 2023), https://www.ilrc.org/resources/naturalization-test-redesign (last visited Nov 20, 2024).

• Would create new challenges for adult learners because it requires a higher level of reading ability that cannot be met by low-literacy adults who learn orally.¹¹

¹¹ Id.

• Would pose a barrier to those without formal education.¹²

¹² Id.

The objective of the trial was to determine an efficient way to reduce undue barriers ¹³ to taking the naturalization test and the majority of the feedback received revealed concerns that the trial version of the test may increase burdens on applicants. Therefore, USCIS has decided to terminate the previously proposed trial test altogether.

¹³ See Executive Order 14012 (February 2, 2021), available at https://www.govinfo.gov/content/pkg/FR-2021-02-05/pdf/2021-02563.pdf.

III. Termination Is Immediately Effective

The proposed trial test is terminated effective immediately. USCIS continues to use the current 2008 version of the English and civics test.¹⁴

¹⁴ See USCIS Policy Manual, Volume 12, Citizenship and Naturalization, Part E, English and Civics Testing and Exceptions, Chapter 2, English and Civics Testing [12 USCIS-PM E.2], available at https://www.uscis.gov/policy-manual/volume-12-part-e-chapter-2 (last visited Nov. 20, 2024). See also Study for the Test, available at https://www.uscis.gov/citizenship/find-study-materials-and-resources/study-for-the-test (last visited Nov. 20, 2024).

Ur M. Jaddou,
Director, U.S. Citizenship and Immigration Services, Department of Homeland Security.

[FR Doc. 2024-30213 Filed 12-27-24; 8:45 am]

BILLING CODE 9111-97-P